DEPARTMENT OF COMMERCE

National Oceanic and Atmospheric Administration

[I.D. 022305A]

Marine Mammals; Permits No. 782-1719-00 and 774-1714-00

AGENCY: National Marine Fisheries Service (NMFS), National Oceanic and Atmospheric Administration (NOAA), Commerce.

ACTION: Receipt of application for permit amendment.

SUMMARY: Notice is hereby given that the following organizations have applied in due form for a permit amendment to take marine mammals for purposes of scientific research:

Permit No. 782-1719-00 - National Marine Fisheries Service (NMFS), National Marine Mammal Laboratory (NMML), 7600 Sand Point Way, N.E. Seattle, WA 98115; and

Permit No. 774-1714-00 - National Marine Fisheries Service (NMFS), Southwest Fisheries Science Center, 8604 La Jolla Shores Dr., La Jolla, CA 92037.

DATES: Written or telefaxed comments on the new applications and amendment request must be received on or before March 31, 2005.

ADDRESSES: The amendment request and related documents are available for review upon written request or by appointment in the following office(s): See SUPPLEMENTARY INFORMATION.

FOR FURTHER INFORMATION CONTACT: Ruth Johnson or Carrie Hubard, 301/713-2289, or email: Ruth.Johnson@noaa.gov.

SUPPLEMENTARY INFORMATION: The subject amendment is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-227).

Permit No. 782-1719 authorizes NMML to take marine mammals during MMPA mandated stock assessment activities. NMML may conduct Level B harassment during overflights, vessel-based observations, and approaches for photography, and by Level A harassment when conducting biopsy sampling or tagging. The Permit Holder has requested an amendment to the permit to increase the number of bowhead and beluga whales to be taken and to increase the number of small cetaceans to be taken over a 5-year period.

Permit No. 774-1714 authorizes the SWFSC to take marine mammals during MMPA mandated stock assessment activities. The SWFSC may conduct Level B harassment of pinniped and cetacean species during overflights, vessel based observations, and approaches for photography, biopsy sampling and tagging. The Permit Holder has requested an amendment to the permit to increase the number of humpback whales taken over the 5-year period. The research is part of the SPLASH program and takes place in the Gulf of Alaska, Bering Sea and along the Aleutian Island chain. The Center also requests authorization to tag and track 30 each of false killer whales and short-finned pilot whales around the Hawaiian Islands.

Concurrent with the publication of this notice in the Federal Register, NMFS is forwarding copies of the application to the Marine Mammal Commission and its Committee of Scientific Advisors.

Documents are available in the following offices:

Permits, Conservation and Education Division, Office of Protected Resources, NMFS, 1315 East-West Highway, Room 13705, Silver Spring, MD 20910; phone (301)713-2289; fax (301)713-0376;

Assistant Regional Administrator for Protected Resources, Northwest Region, NMFS, 7600 Sand Point Way NE, BIN C15700, Bldg. 1, Seattle, WA 98115-0700; phone (206)526-6150; fax (206)526-6426;

Assistant Regional Administrator for Protected Resources, Alaska Region, NMFS, P.O. Box 21668, Juneau, AK 99802-1668; phone (907)586-7235; fax (907)586-7012; and

Assistant Regional Administrator for Protected Resources, Southwest Region, NMFS, 501 West Ocean Blvd., Suite 4200, Long Beach, CA 90802-4213; phone (562)980-4020; fax (562)980-4027.

Dated: February 23, 2005.
Patrick Opay,
Acting Chief, Permits, Conservation and Education Division, Office of Protected Resources, National Marine Fisheries Service.

[FR Doc. 05-3942 Filed 2-28-05; 8:45 am]

BILLING CODE 3510-22-S